DEPARTMENT OF COMMERCE

International Trade Administration

[A-570-943]

Certain Oil Country Tubular Goods From the People's Republic of China: Amended Final Results of Antidumping Duty Administrative Review; 2010-2011

AGENCY: Import Administration, International Trade Administration, Department of Commerce.

DATES: Effective February 6, 2013.

FOR FURTHER INFORMATION CONTACT: Paul Stolz, AD/CVD Operations, Office 8, Import Administration, International Trade Administration, U.S. Department of Commerce, 14th Street and Constitution Avenue NW., Washington, DC 20230; telephone: (202) 482-4474.

SUPPLEMENTARY INFORMATION:

Background

On December 17, 2012, the Department of Commerce (“Department”) published the final results of the antidumping duty administrative review of certain oil country tubular goods (“OCTG”) from the People's Republic of China (“PRC”), covering the period May 19, 2010, through April 30, 2011.¹ On December 18, 2012, U.S. Steel Corporation (a petitioner) and American Tubular Products, LLC (“ATP”) (an importer of subject merchandise), submitted ministerial error allegations and requested, pursuant to 19 CFR 351.224(c), that the Department correct the alleged ministerial errors in the calculation of the weighted-average dumping margin for Jiangsu Chengde Steel Tube Share Co., Ltd. (“Jiangsu Chengde”), Taizhou Chengde Steel Tube Co., Ltd. (“Taizhou Chengde”), and Yangzhou Chengde Steel Tube Co., Ltd. (“Yangzhou Chengde”) (collectively “the Chengde Group”). As a result of a transcription error, the version of this notice released to interested parties on January 14, 2013, incorrectly stated the weight-averaged dumping margin calculated for the Chengde Group. This notice corrects this error. Because this error was discovered prior to publication in the Federal Register, this amended final results is being published in place of the original version released on January 14, 2013.

¹ See Certain Oil Country Tubular Goods From the People's Republic of China: Final Results of Antidumping Duty Administrative Review; 2010-2011, 77 FR 74644 (December 17, 2012) (“Final Results”).

Scope of the Order

For a full description of the products covered by the antidumping duty order on OCTG from the PRC, see the Final Results.

Ministerial Errors

A ministerial error as defined in section 751(h) of the Tariff Act of 1930, as amended (“the Act”), includes “errors in addition, subtraction, or other arithmetic function, clerical error resulting from inaccurate copying, duplication, or the like, and any other type of unintentional error which the administering authority considers ministerial.” ²

² See also 19 CFR 351.224(f).

After analyzing all interested party comments we have determined, in accordance with section 751(h) of the Act and 19 CFR 351.224(e), that we made certain ministerial errors in our calculations for the Final Results. For a detailed analysis of these alleged ministerial errors, see “First Administrative Review of the Antidumping Duty Order on Certain Oil Country Tubular Goods From the People's Republic of China: Analysis of Ministerial Error Allegations,” dated concurrently with this notice.

The amended weighted-average dumping margin is as follows:

OCTG From the PRC
Exporter(s) | Weighted- average dumping margin (percent)
Jiangsu Chengde, Yangzhou Chengde, Taizhou Chengde | 162.69

These amended final results are published in accordance with sections 751(a)(1), 751(h) and 777(i)(1) of the Act.

Dated: February 1, 2013.
Paul Piquado,
Assistant Secretary for Import Administration.

[FR Doc. 2013-02801 Filed 2-6-13; 8:45 am]

BILLING CODE 3510-DS-P